DEPARTMENT OF ENERGY

Office of Energy Efficiency and Renewable Energy

H2 Refuel H-Prize Draft Guidelines Released for Public Comment

AGENCY: Office of Energy Efficiency and Renewable Energy, Department of Energy (DOE).

ACTION: Notice of Public Comment Period for the H2 Refuel H-Prize Draft Guidelines.

SUMMARY: The Department of Energy (DOE) announces in this notice the release of the H2 Refuel H-Prize Draft Guidelines for public comment, pursuant to Section 654 of the Energy Independence and Security Act of 2007, Public Law 110-140 (December 19, 2007). Interested persons are encouraged to learn about the H2 Refuel H-Prize guidelines at: http://www.hydrogen.energy.gov/hprize.html.

DATES: Comments on the draft H2 Refuel H-Prize draft guidelines must be received within 30 days of the Federal Register Notice publication date.

ADDRESSES: U.S. Department of Energy, Golden Field Office, 15013 Denver West Parkway, Golden, CO 80401-3111, Attn: Reginald Tyler.

To submit comments, interested persons are encouraged to follow any of the listed methods: Email: HPrize@go.doe.gov. Include “H2 Refuel H-Prize” in the Subject line.

FOR FURTHER INFORMATION CONTACT: Questions may be directed to Reginald Tyler at 720-356-1805 or by email at Reginald.tyler@go.doe.gov.

SUPPLEMENTARY INFORMATION: In 2007 the Energy Independence and Security Act authorized the H-Prize to competitively award prizes for advances in hydrogen energy technologies in order to accelerate and reward breakthroughs in notable scientific and engineering challenges, while engaging a broad range of participants. The $1 million H2 Refuel H-Prize challenges America's engineers and entrepreneurs to develop affordable systems for small-scale, non-commercial hydrogen fueling, at homes or multi-use sites that can supplement the current development of hydrogen fueling station infrastructure. Successful entries will install and test systems that generate hydrogen from resources available to most homes, electricity and natural gas, and dispense the hydrogen into vehicles. Winners will demonstrate that they can meet both the technical and cost criteria as outlined in the final guidelines.

Today's notice announces the availability of draft guidelines for administration of the prize competition.

The DOE will consider any comments received within 30 days of the Federal Register Notice publication date.

Issued in Golden, CO, on March 12, 2014.
Christina Kouch,
Contracting Officer.

[FR Doc. 2014-06193 Filed 3-20-14; 8:45 am]

BILLING CODE 6450-01-P